DEPARTMENT OF THE TREASURY

Internal Revenue Service

26 CFR Parts 1, 301, and 602

[REG-103281-11]

RIN 1545-BK06

Tax on Certain Foreign Procurement; Correction

AGENCY: Internal Revenue Service (IRS), Treasury.

ACTION: Correction to notice of proposed rulemaking.

SUMMARY: This document contains corrections to a notice of proposed rulemaking (REG-103281-11) that was published in the Federal Register on Wednesday, April 22, 2015 (80 FR 22449), the proposed regulations are relating to the 2 percent tax on payments made by the U.S. government to foreign persons pursuant to certain contracts.

DATES: Written or electronic comments and request for a public hearing for the notice of proposed rulemaking at 80 FR 22449, April 22, 2015, are still being accepted and must be received by July 21, 2015.

FOR FURTHER INFORMATION CONTACT: Kate Hwa, at (202) 317-6934 (not a toll-free number).

SUPPLEMENTARY INFORMATION:

Background

The notice of proposed rulemaking that is the subject of this document is under section 5000C of the Internal Revenue Code.

Need for Correction

As published, the notice of proposed rulemaking (REG-103281-11) contains errors that are misleading and are in need of clarification.

Correction to Publication

Accordingly, notice of proposed rulemaking, that is the subject of FR Doc. 2015-09383, is corrected as follows:

1. On page 22452, in the preamble, second column, under the paragraph heading “A. Increase Amount Deducted and Withheld Under Chapter 3”, the eleventh line from the top of the paragraph, the language “annual or periodical income (FDAP).” is corrected to read “annual or periodical income.”.

§ 1.5000C-2 [Corrected]

2. On pages 22460 through 22461, paragraph (d)(7), the “Section 5000C Certificate” is corrected to read as follows:

§ 1.5000C-3 [Corrected]

3. On page 22462, second column, the seventeenth and eighteenth lines of paragraph (b)(2), the language “publications prescribed by the Internal Revenue Service (IRS), acquiring” is corrected to read “publications prescribed by the IRS, acquiring”.

4. On page 22462, third column, the fourteenth line from the bottom of paragraph (c)(1), the language “a copy of Form 1042, Form 1042-S, the” is corrected to read “a copy of Form 1042, Forms 1042-S, the”.

5. On page 22462, third column, the seventh line from the bottom of paragraph (c)(1), the language “to file Form 1042 must retain any” is corrected to read “to file Form 1042 must retain all”.

Martin V. Franks,
Chief, Publications and Regulations Branch, Legal Processing Division, Associate Chief Counsel (Procedure and Administration).

[FR Doc. 2015-16761 Filed 7-8-15; 8:45 am]

BILLING CODE 4830-01-P